FEDERAL ELECTION COMMISSION

Sunshine Act Meetings

FEDERAL REGISTER CITATION OF PREVIOUS ANNOUNCEMENT: 89 FR 68439.

PREVIOUSLY ANNOUNCED TIME AND DATE OF THE MEETING: Thursday, August 29, 2024, at 10:00 a.m.

Hybrid Meeting: 1050 First Street NE, Washington, DC (12th Floor) and Virtual.

CHANGES IN THE MEETING:

The following items were also discussed:

Draft Advisory Opinion 2024-11: Caroline Gleich.

Certification for Payment of Presidential Primary Matching Funds (Mike Pence for President).

Certification for Payment of Presidential Primary Matching Funds (Jill Stein for President 2024).

CONTACT PERSON FOR MORE INFORMATION: Judith Ingram, Press Officer, Telephone: (202) 694-1220.

(Authority: Government in the Sunshine Act, 5 U.S.C. 552b)

Laura E. Sinram,
Secretary and Clerk of the Commission.

[FR Doc. 2024-19893 Filed 8-30-24; 11:15 am]

BILLING CODE 6715-01-P